DEPARTMENT OF HEALTH AND HUMAN SERVICES

Centers for Disease Control and Prevention

[60Day-01-63]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Statement in Support of Application For Waiver of Inadmissibility OMB No. 0920-0006—Extension—National Center for Infectious Diseases (NCID), Centers for Disease Control and Prevention (CDC).

Section 212(a)(1) of the Immigration and Nationality Act states that aliens with specific health-related conditions are ineligible to receive visas and ineligible for admission into the United States. The Attorney General may waive application of this inadmissibility on health-related grounds if an application for waiver is filed and approved by the consular office considering the application for a visa. The Division of Migration and Quarantine, NCID uses this application primarily to collect information to establish and maintain records of waiver applicants in order to notify the Immigration and Naturalization Service when terms, conditions and controls imposed by waiver are not met. NCID is requesting the extension of this data for 3 years. There are no costs to respondents.

Respondents | Number of respondents | Number of responses/respondents | Avg. burden/response (in hrs.) | Total burden (in hrs.)
Businesses or organizations | 200 | 1 | 10/60 | 33
Total |  |  |  | 33

Dated: September 18, 2001.
Nancy E. Cheal,
Acting Associate Director for Policy, Planning and Evaluation, Centers for Disease Control and Prevention.

[FR Doc. 01-24022 Filed 9-25-01; 8:45 am]

BILLING CODE 4163-18-P